ENVIRONMENTAL PROTECTION AGENCY

[EPA-HQ-OPPT-2018-0405; FRL-9983-71]

Certain New Chemical Substances; Receipt and Status Information for June 2018

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from June 1, 2018 to June 30, 2018.

DATES: Comments identified by the specific case number provided in this document must be received on or before November 13, 2018.

ADDRESSES: Submit your comments, identified by docket identification (ID) number EPA-HQ-OPPT-2018-0405, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from June 1, 2018 to June 30, 2018. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995 (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs received by EPA during this period, Table I provides the following information (to the extent that such information is not subject to a CBI claim) on the notices received by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier versions were rejected as incomplete or invalid submissions. Note also that future versions of the following tables may adjust slightly as the Agency works to automate population of the data in the tables.

Table I—PMN/SNUN/MCANs Received From 6/1/2018 to 6/30/2018
Case No. | Version | Received date | Manufacturer | Use | Chemical substance
J-18-0012 | 1 | 6/6/2018 | Vestaron Corporation | (G) Production of an agricultural product | (G) Genetically modified yeast.
J-18-0013 | 5 | 6/7/2018 | CBI | (G) Production of biofuel | (G) Biofuel producing modified microorganism(s), with chromosomally-borne modifications.
J-18-0014 | 5 | 6/7/2018 | CBI | (G) Production of biofuel | (G) Biofuel producing modified microorganism(s), with chromosomally-borne modifications.
J-18-0015 | 5 | 6/7/2018 | CBI | (G) Production of biofuel | (G) Biofuel producing modified microorganism(s), with chromosomally-borne modifications.
J-18-0016 | 5 | 6/7/2018 | CBI | (G) Production of biofuel | (G) Biofuel producing modified microorganism(s), with chromosomally-borne modifications.
J-18-0017 | 5 | 6/7/2018 | CBI | (G) Production of biofuel | (G) Biofuel producing modified microorganism(s), with (G) Production of biofuel chromosomally-borne modifications.
J-18-0018 | 5 | 6/7/2018 | CBI | (G) Production of biofuel | (G) Biofuel producing modified microorganism(s), with chromosomally-borne modifications.
P-16-0180A | 3 | 6/25/2018 | CBI | (S) Component of industrial and maintenance coatings | (G) Isocyanic acid, polymethylenepolyphenylene ester, polymer with a-hydro-w-hydroxypoly[oxy(methyl-1,2-ethanediyl)] and alkylene oxide polymer, alkylamine initiated.
P-16-0271A | 8 | 6/8/2018 | Oxea Corporation | (S) Flexible PVC plasticizer for wire insulation | (S) 1,2,4-Benzenetricarboxylic acid, 1,2,4-trinonyl ester.
P-16-0354A | 2 | 6/20/2018 | CBI | (G) Intermediate | (G) Esteramine.
P-16-0355A | 2 | 6/20/2018 | CBI | (G) Intermediate | (G) Esteramine.
P-16-0424A | 3 | 6/19/2018 | Sachem, Inc | (G) Directing agent | (G) Tetraalkylpiperidinium hydroxide.
P-16-0584A | 5 | 6/2/2018 | CBI | (G) Additive used to impart specific physicochemical property(ies) to finished articles | (G) Multi-walled carbon nanotubes.
P-16-0585A | 5 | 6/2/2018 | CBI | (G) Additive used to impart specific physicochemical property(ies) to finished articles | (G) Multi-walled carbon nanotubes.
P-16-0586A | 5 | 6/2/2018 | CBI | (G) Additive used to impart specific physicochemical property(ies) to finished articles | (G) Muti-walled carbon nanotubes.
P-17-0259A | 8 | 6/8/2018 | CBI | (G) Curative for thermosetting resins | (G) Halogenated aromatic amine.
P-17-0267A | 6 | 6/15/2018 | Honeywell International | (G) Solvent for dispersive use | (S) (1) (Z)-1-chloro-3,3,3-trifluoro-1-propene.
P-17-0284A | 4 | 6/1/2018 | Monument Chemical Houston, Ltd | (G) In-process intermediate | (S) 2-Heptanone, 4-hydroxy.
P-17-0285A | 4 | 6/1/2018 | Monument Chemical Houston, Ltd | (G) In-process intermediate | (S) 4-Hepten-2-one.
P-17-0312A | 6 | 6/12/2018 | CBI | (G) Additive for electrocoat formulas | (G) Organic acid, compds. with bisphenol A-epichlorohydrin-polypropylene glycol diglycidyl ether polymer-disubstituted amine-disubstituted polypropylene glycol reaction products.
P-17-0313A | 6 | 6/12/2018 | CBI | (G) Additive for electrocoat formulas | (G) Phenol, 4,4′-(1-methylethylidene)bis-, polymer with 2-(chloromethyl)oxirane and alpha-(2-oxiranylmethyl)-omega-(2-oxiranylmethoxy)poly[oxy(methyl-1,2-ethanediyl)], reaction products with disubstituted amine and disubstituted polypropylene glycol, organic acid salts.
P-17-0314A | 6 | 6/12/2018 | CBI | (G) Additive for electrocoat formulas | (G) Organic acid, 2-substituted-, compounds with bisphenol A-epichlorohydrin-polypropylene glycol diglycidyl ether polymer-disubstituted aminedisubstituted polypropylene glycol reaction products.
P-17-0315A | 6 | 6/12/2018 | CBI | (G) Additive for electrocoat formulas | (G) Phenol, 4,4′-(1-methylethylidene)bis-, polymer with alpha-(2-substituted-methylethyl)-omega-(2-substituted-methylethoxy)poly[oxy(methyl-1,2-ethanediyl)], 2-(chloromethyl)oxirane and alpha-(2-oxiranylmethyl)-omega-(2-oxiranylmethoxy)poly[oxy(methyl-1,2-ethanediyl)], alkylphenyl ethers, reaction products with disubstituted amine, organic acid salts.
P-17-0316A | 6 | 6/12/2018 | CBI | (G) Additive for electrocoat formulas | (G) Organic acid, compounds with bisphenol A-epichlorohydrin-disubstituted polypropylene glycol-polypropylene glycol diglycidyl ether polymer alkylphenyl ethers-disubstituted amine reaction products.
P-17-0317A | 6 | 6/12/2018 | CBI | (G) Additive for electrocoat formulas | (G) Organic acid, compounds with bisphenol A-epichlorohydrin-polypropylene glycol diglycidyl ether polymer-disubstituted polypropylene glycol reaction products.
P-18-0049 | 4 | 6/28/2018 | CBI | (G) Coating component/processing aid | (G) Mixed metal halide.
P-18-0050A | 3 | 6/21/2018 | CBI | (G) Raw material in industrial coatings | (G) Alkane, diisocyanato-, homopolymer, alkyl dihydrogen phosphate- and polyalkylene glycol mono-alkyl ether.
P-18-0104A | 3 | 6/8/2018 | CBI | (S) Halogen free flame retardant in thermoplastic polymers | (G) Acrylic acid, reaction products with pentaerythritol, polymerized.
P-18-0104A | 4 | 6/21/2018 | CBI | (S) Halogen free flame retardant in thermoplastic polymers | (G) Acrylic acid, reaction products with pentaerythritol, polymerized.
P-18-0132A | 2 | 6/7/2018 | Cabot Corporation | (S) Pigment dispersing aid | (G) Substituted Benzene, 4-methoxy-2-nitro-5-[2-[(1E)-1-[[(2-methoxyphenyl)amino]carbonyl]-2-oxopropylidene]hydrazinyl]-, sodium salt (1:1).
P-18-0155A | 2 | 6/04/2018 | CBI | (G) Component in cement | (G) Crosslinked polymer of alkyl acrylamides, acrylate esters, and alkyl acrylamide sulfonate salt.
P-18-0155A | 3 | 6/25/2018 | CBI | (G) Component in cement | (G) Crosslinked polymer of alkyl acrylamides, acrylate esters, and alkyl acrylamide sulfonic acid.
P-18-0156A | 2 | 6/04/2018 | CBI | (G) Component in cement | (G) Crosslinked polymer of alkyl acrylamides, acrylate esters, and alkyl acrylamide sulfonate salt.
P-18-0156A | 3 | 6/25/2018 | CBI | (G) Component in cement | (G) Crosslinked polymer of alkyl acrylamides, acrylate esters, and alkyl acrylamide sulfonic acid.
P-18-0168A | 2 | 6/25/2018 | CBI | (G) Color additive | (G) alkoxylated triaryl methane.
P-18-0169A | 5 | 6/19/2018 | C. L. Hauthaway & Sons Corp | (G) Protective coating | (G) Propanoic acid, 3-hydroxy-2-(hydroxymethyl)-2-methyl-, polymer with dimethyl carbonate, 1,6-hexanediol, diamine and 1,1′-methylenebis[4-isocyanatocyclohexane], acrylate-blocked, compds. with triethylamine.
P-18-0187 | 2 | 6/4/2018 | CBI | (G) Emulsifier | (G) Carboxylic acid-polyamine condensate.
P-18-0187A | 3 | 6/14/2018 | CBI | (G) Emulsifier | (G) Carboxylic acid-polyamine condensate.
P-18-0197 | 1 | 6/1/2018 | CBI | (G) Polymer composite additive | (G) Metal, alkylcarboxylate oxo complexes.
P-18-0198 | 2 | 6/6/2018 | CBI | (G) Additive for lubricant technologies | (G) Substituted sulfonic acid salt.
P-18-0199 | 1 | 6/1/2018 | CBI | (G) Fuel cell component | (G) Rare earth oxide.
P-18-0200 | 1 | 6/1/2018 | CBI | (G) Insulation component | (G) Waste plastics, poly(ethylene terephthalate), polymers with diethylene glycol, glycerol, polyerythritol, triethylene glycol, trimethylolalkane and polypropylene glycol.
P-18-0201 | 1 | 6/1/2018 | CBI | (G) Insulation component | (G) Waste plastics, poly(ethylene terephthalate), polymers with diethylene glycol, glycerol, polyerythritol, phthalic anhydride, triethylene glycol, trimethylolalkane, and polypropylene glycol.
P-18-0201A | 2 | 6/7/2018 | CBI | (G) Insulation component | (G) Waste plastics, poly(ethylene terephthalate), polymers with diethylene glycol, glycerol, polyerythritol, phthalic anhydride, triethylene glycol, trimethylolalkane, and polypropylene glycol.
P-18-0202 | 1 | 6/4/2018 | Hexion, Inc | (G) Demulsifier (G) Composite resin, (G) Compatibilizer, (G) Coating resin, (G) Coated abrasives, (G) Foam resin, (G) Friction resin, (G) Refractory resin, (G) Tackifier additives, (G) Bonded abrasives, (G) Rubber additive. | (G) Trialkyl alkanal, polymer with phenol.
P-18-0202A | 3 | 6/14/2018 | Hexion, Inc | (G) Demulsifier (G) Composite resin, (G) Compatibilizer, (G) Coating resin, (G) Coated abrasives, (G) Foam resin, (G) Friction resin, (G) Refractory resin, (G) Tackifier additives, (G) Bonded abrasives, (G) Rubber additive. | (G) Trialkyl alkanal, polymer with phenol.
P-18-0203 | 1 | 6/4/2018 | Hexion, Inc | (G) Tackifier additives (G) Rubber additive, (G) Refractory resin, (G) Friction resin, (G) Foam resin, (G) Demulsifier, (G) Composite resin, (G) Compatibilizer, (G) Coating resin, (G) Coated abrasives, (G) Bonded abrasives. | (G) Trialkyl alkanal, polymer with alkylalkanal and phenol.
P-18-0203A | 3 | 6/14/2018 | Hexion, Inc | (G) Tackifier additives (G) Rubber additive, (G) Refractory resin, (G) Friction resin, (G) Foam resin, (G) Demulsifier, (G) Composite resin, (G) Compatibilizer, (G) Coating resin, (G) Coated abrasives, (G) Bonded abrasives. | (G) Trialkyl alkanal, polymer with alkylalkanal and phenol.
P-18-0204 | 1 | 6/4/2018 | Hexion, Inc | (G) Coated abrasives (G) Coating resin, (G) Bonded abrasives, (G) Tackifier additive, (G) Rubber additive, (G) Refractory resin, (G) Friction resin, (G) Foam resin, (G) Demulsifier, (G) Composite resin, (G) Compatibilizer. | (G) Alkyl alkanal, polymer with phenol.
P-18-0204A | 3 | 6/14/2018 | Hexion, Inc | (G) Coated abrasives (G) Coating resin, (G) Bonded abrasives, (G) Tackifier additive, (G) Rubber additive, (G) Refractory resin, (G) Friction resin, (G) Foam resin, (G) Demulsifier, (G) Composite resin, (G) Compatibilizer. | (G) Alkyl alkanal, polymer with phenol.
P-18-0205 | 1 | 6/4/2018 | Hexion, Inc | (G) Tackifier additives (G) Coated abrasives, (G) Coating resin, (G) Compatibilizer, (G) Composite resin, (G) Bonded abrasives, (G) Foam resin, (G) Friction resin, (G) Refractory resin, (G) Rubber additive, (G) Tackifier additive, (G) Demulsifier. | (G) Alkyl alkanal, polymer with formaldehyde and phenol.
P-18-0205A | 3 | 6/14/2018 | Hexion, Inc | (G) Tackifier additive (G) Coated abrasives, (G) Coating resin, (G) Compatibilizer, (G) Composite resin, (G) Bonded abrasives, (G) Foam resin, (G) Friction resin, (G) Refractory resin, (G) Rubber additive, (G) Tackifier additive, (G) Demulsifier. | (G) Alkyl alkanal, polymer with formaldehyde and phenol.
P-18-0206 | 1 | 6/4/2018 | Hexion, Inc | (G) Bonded abrasives (G) Coated abrasives, (G) Coating resin, (G) Compatibilizer, (G) Composite resin, (G) Demulsifier, (G) Foam resin, (G) Refractory resin, (G) Rubber additive, (G) Tackifier additive. | (G) Alkanal, polymer with phenol.
P-18-0206A | 3 | 6/14/2018 | Hexion, Inc | (G) Bonded abrasives (G) Coated abrasives, (G) Coating resin, (G) Compatibilizer, (G) Composite resin, (G) Demulsifier, (G) Foam resin, (G) Refractory resin, (G) Rubber additive, (G) Tackifier additive. | (G) Alkanal, polymer with phenol.
P-18-0207 | 2 | 6/6/2018 | CBI | (G) Polymer composite additive | (G) Metal, oxo alkylcarboxylate complexes.
P-18-0208 | 2 | 6/14/2018 | CBI | (G) Friction reducer | (G) Polymer of acrylamide, substituted ammonium chloride and sodium salt of derivatized propanesulfonic acid.
P-18-0209 | 1 | 6/8/2018 | CBI | (G) UV curable oligomer | (G) 2-propenoic acid, reaction products with epichlorohydrin and aliphatic diol.
P-18-0210 | 1 | 6/11/2018 | CBI | (G) Intermediate | (G) Phosphonomethylated ether diamine.
P-18-0211 | 1 | 6/12/2018 | Patcham USA, LLC | (S) Wetting and dispersing agent for pigment formulations, paints, and coatings | (G) Alkaneamine, (aminoalkyl)-, polymer with aziridine and 1,6-diisocyanatohexane, polyethylene glycol alkyl ether- and polyethylene-polypropylene glycol aminoalkyl alkyl ether- and alkenyl benzenated polyethylene glycol PH ether.
P-18-0212 | 1 | 6/14/2018 | Allnex USA, Inc | (S) Coating resin for improved appearance and adhesion | (G) Substituted carbomonocycle, polymer with alkyl alkenoate, alkenyl substituted carbomonocycle, substituted alkanediol, heteropolycycle, alkylene glycol and alkenoic acid, compounds with alkylamino alkanol.
P-18-0212A | 2 | 6/26/2018 | Allnex USA, Inc | (S) Coating resin for improved appearance and adhesion | (G) Substituted carbomonocycle, polymer with alkyl alkenoate, alkenyl substituted carbomonocycle, substituted alkanediol, heteropolycycle, alkylene glycol and alkenoic acid, compounds with alkylamino alkanol.
P-18-0213 | 1 | 6/18/2018 | CBI | (S) polyester or polyamide modifer incorporated into backbone of polymer | (S) 1,3-benzenedicarboxylic acid, 5-sulfo-, calcium salt (2:1).
P-18-0214 | 1 | 6/18/2018 | CBI | (G) Curing agent | (G) Polycyclic substituted alkane, polymer with cyclicalkylamine, epoxide, and polycyclic epoxide ether, reaction products with dialkylamine substituted alkyl amine.
P-18-0215 | 1 | 6/18/2018 | CBI | (G) Curing agent | (G) Polycyclic alkane, polymer with monocyclic amine, polycyclic epoxide ether, reaction products with dialkylamine alkyl amine.
P-18-0216 | 1 | 6/18/2018 | CBI | (G) Curing agent | (G) Polycyclic substituted alkane, polymer with epoxide, reaction products with cyclicalkylamine and dialkylamine substituted alkyl amine.
P-18-0217 | 3 | 6/26/2018 | Galata Chemicals, LLC | (S) Stabilizer for PVC compound | (G) Alkyltin dodecylthioester.
P-18-0218 | 3 | 6/26/2018 | Galata Chemicals, LLC | (S) Stabilizer for PVC compound | (G) Alkyltin tetradecylthioester.
P-18-0219 | 2 | 6/21/2018 | CBI | (G) Intermediate for topcoat | (G) Polythioether, short chain diol polymer terminated with aliphatic diisocyanate.
P-18-0220 | 1 | 6/21/2018 | Allnex USA, Inc | (S) UV Curable Coating Resin | (G) Heteromonocycle [(alkylalkylidene)bis(substituted carbomoncycle)]bis-, polymer with alkyl isocyanate, alkenoate (ester).
P-18-0221 | 1 | 6/21/2018 | Georgia-Pacific Chemicals, LLC | (S) binder for wood panels | (G) Polyglycerol reaction product with acid anhydride, etherified.
P-18-0222 | 1 | 6/22/2018 | Clariant Plastics & Coatings USA, Inc | (S) Reactive polymer for use in adhesive applications | (G) Silane, alkenylalkoxy-, polymer with alkene and alkene.
P-18-0223 | 1 | 6/26/2018 | Clariant Corporation | (S) Selectivity improver for catalysts used in the production of polyolefins | (G) Alkane, bis(alkoxymethyl)-dimethyl-.
P-18-0227 | 1 | 6/29/2018 | CBI | (G) Chemical intermediate (G) Corrosion inhibitor | (S) D-glucaric acid.
P-18-0230 | 1 | 6/29/2018 | Clariant Plastics & Coatings USA, Inc | (S) Lubricant and surface protection agent | (S) Waxes and waxy substances, rice bran, oxidized, calcium salts.
P-18-0231 | 1 | 6/29/2018 | Allnex USA, Inc | (S) Waterborne UV curable coating resin binder for inkjet, ink or overprint varnish | (G) Alkanoic acid, substituted alkyl-, polymer with isocyanatoalkane, alkyl carbonate, alkanediol and polyalkylene glycol ether with alkyl(substituted alkyl) alkanediol alkenoate, glycerol monoacrylate alkanoate-blocked.

In Table II of this unit, EPA provides the following information (to the extent that such information is not claimed as CBI) on the NOCs received by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Received From 6/1/2018 to 6/30/2018
Case No. | Received date | Commencement date | If amendment, type of amendment | Chemical substance
P-13-0289 | 6/27/2018 | 6/13/2018 |  | (G) Alkanoic acid, tetramethylheteromonocycle ester.
P-13-0878 | 6/8/2018 | 5/9/2018 |  | (G) Reaction product of acrylic acid and isocyanate.
P-14-0355 | 6/6/2018 | 5/31/2018 |  | (S) 4h-1,3-benzodioxin, hexahydro-4-methyl-2-(phenylmethyl)-.
P-14-0471 | 6/1/2018 | 5/9/2018 |  | (G) Acrylate isocyanate polymer.
P-15-0706A | 6/12/2018 | 7/9/2017 | Amended substantiation | (G) Aliphatic N-alkyl urea polymer containing cyclohexyl groups and trimethoxy silanes.
P-15-0707A | 6/11/2018 | 7/9/2017 | Amended substantiation | (G) Aliphatic N-alkyl urea polymer containing aspartic ester groups and trimethoxy silanes.
P-16-0063 | 6/12/2018 | 5/23/2018 |  | (G) Hydroxyl carboxylic acid, compds. with 2-(dimethylamino)ethanol-quaternized bisphenol a-[2-(dimethylamino)ethanol-blocked polymethylenepolyphenylene isocyanate-polypropylene glycol polymer]-epichlorohydrin polymer.
P-16-0130 | 6/1/2018 | 5/7/2018 |  | (G) Polyester-amide, polymer of isophthalic acid with glycol, diamine, and amino alcohol.
P-16-0310 | 6/13/2018 | 4/9/2018 | Amended generic name | (G) 12-Hydroxystearic acid, reaction products with alkylene diamine and alkanoic acid.
P-16-0410A | 6/20/2018 | 4/4/2018 | Amended generic name | (G) Phosphonic acid, [(hydroxycyclosiloxanediyl) alkanediyl] dialkyl ester, alkali metal salt, reaction products with alkali metal silicate.
P-16-0588 | 6/6/2018 | 5/13/2018 |  | (G) Alkyl methacrylate, polymer with alkyl acrylate and polyesters,.
P-17-0251 | 6/1/2018 | 5/8/2018 |  | (G) 1-h-benz[de] isoquinoline-1,3(2h)-dione-2-(-alkyl-)-(-alkyl-amino-),,.
P-17-0273 | 6/19/2018 | 6/14/2018 |  | (G) Fatty acid amide alkyl amine salts.
P-17-0353 | 6/4/2018 | 5/25/2018 |  | (G) Heteromonocycle, 2-[(bicarbomonocycle-2-substituted)alkyl]-,.
P-17-0373 | 6/11/2018 | 6/10/2018 |  | (G) Heteromonocycle, homopolymer, alkyl substituted carbamate, alkyl ester.
P-17-0374 | 6/12/2018 | 6/11/2018 |  | (G) Polysiloxanes, di alkyl , substituted alky group-terminated, alkoxylated, reaction products with alkanoic acid, isocyanate substituted-alkyl carbomonocycle and polyol.
P-18-0017 | 6/29/2018 | 6/29/2018 |  | (G) Substituted carbomonocycle, polymer with substituted heteromonocycle and substituted polyalkylene glycol.
P-18-0021A | 6/1/2018 | 4/6/2018 | Amended generic name | (G) Dicarboxylic acids, polymers with substituted poly(substituted alkenediyl),3-hydroxy-2-(hydroxyalkyl)-2-alkylalkanoic acid, 5-substituted-1-(substituted alkyl)-1,3,3-trialkyl carbomonocyle, alkanediol, alkane-triol, alcohol blocked compounds with aminoalcohol.

In Table III. of this unit, EPA provides the following information (to the extent such information is not subject to a CBI claim) on the test information received by EPA during this time period: The EPA case number assigned to the test information; the date the test information was received by EPA, the type of test information submitted, and chemical substance identity.

Table III—Test Information Received From 6/1/2018 to 6/30/2018
Case No. | Received date | Type of test information | Chemical substance
P-16-0543 | 6/28/2018 | Exposure Monitoring Data | (G) halogenophosphoric acid metal salt.
P-17-0253 | 6/1/2018 | Surface Tension Testing | (G) oxirane, 2-methyl-, polymer with oxirane, methyl 2-(substituted carbomonocylce isoquinolin-2(3H)-yl) propyl ether.
P-18-0027 | 6/11/2018 | Acute Toxicity Test with the Fathead Minnow, Pimephales Promelas, as Mitigated by Humic Acid (Test Guideline OPPTS 850.1085) | (G) 2-propenoic acid, 2-alkyl-, 2-(dialkylamino)alkyl ester, polymer with alpha-(2-alkyl-1-oxo-2-alken-1-yl)-omega-methoxypoly(oxy-1,2-alkanediyl).
P-18-0031 | 6/14/2018 | In Vitro Skin Irritation: Reconstructed Human Epidermis Test (Test Guideline OECD 439) | (G) substituted dicarboxylic acid, polymer with various alkanediols.
P-18-0060 | 6/29/2018 | Preliminary Toxicity Study by Oral Gavage Administration to CD Rats for 14 Days, Combined Repeated Dose Toxicity Study and Reproductive/Developmental Toxicity Screening Study (Test Guideline OECD 422) | (S) 1-butanaminium, 4-amino-N-(2-hydroxy-3-sulfopropyl)-N, N-dimethyl-4-oxo-, N-coco alkyl derivs., inner salts.
P-18-0125 | 6/7/2018 | Physical Property Data | (G) oxoalkylcarboxylic acid, sodium salt.
P-18-0140 | 6/29/2018 | Physical Property Data, Acute Toxicity by Oral Gavage in Rats, Biodegradation Test (Test Guideline OCED 301B), Bovine Corneal Opacity and Permeability Test (Test Guideline OCED 437), In Vitro Skin Corrosion: Reconstructed Human Epidermis (Test Guideline OECD 431) | (G) methyl modified lactam.
P-18-0141 | 6/29/2018 | Physical Property Data, Acute Toxicity by Oral Gavage in Rats, (Test Guideline OECD 431), Bacterial Reverse Mutation Test (Test Guideline OECD 471) | (G) ethyl modified lactam.

If you are interested in information that is not included in these tables, you may contact EPA's technical information contact or general information contact as described under FOR FURTHER INFORMATION CONTACT to access additional non-CBI information that may be available.

Authority: 15 U.S.C. 2601 et seq.

Dated: September 27, 2018.
Pamela Myrick,
Director, Information Management Division, Office of Pollution Prevention and Toxics.

[FR Doc. 2018-22263 Filed 10-11-18; 8:45 am]

BILLING CODE 6560-50-P